DEPARTMENT OF COMMERCE

Patent and Trademark Office

37 CFR Part 1

Rules of Practice in Patent Cases

CFR Correction

In Title 37 of the Code of Federal Regulations, revised as of July 1, 2003, on page 107, the second § 1.198 is removed.

[FR Doc. 04-55500 Filed 1-27-04; 8:45 am]

BILLING CODE 1505-01-D